DEPARTMENT OF THE INTERIOR

Bureau of Land Management

[LLID9570000.LL14200000.BJ0000]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of portions of the Fourth Standard Parallel North (south boundary), east boundary, subdivisional lines, and 1894 left bank meanders of the North Fork of the Payette River in section 36, and the subdivision of section 36, the survey of the 2006-2009 left bank meanders of the North Fork of the Payette River in section 36, and the survey of a 2006-2009 partition line in section 36, Township 18 North, Range 2 East, Boise Meridian, Idaho, Group Number 1238, was accepted December 7, 2011.

The plat representing the dependent resurvey of a portion of the west boundary, a portion of the subdivisional lines, a portion of the subdivision of section 18, the original 1891 left bank meanders of the Salmon River in sections 7 and 18 and the original 1891 right bank meanders of the Salmon River in section 7, Township 23 North, Range 22 East, of the Boise Meridian, Idaho, Group Number 1325, was accepted December 14, 2011.

This survey was executed at the request of the Bureau of Indian Affairs to meet their administrative needs. The lands surveyed are:

The plat representing the dependent resurvey of a portion of the east boundary, and the subdivisional lines, and the subdivision of section 36, Township 36 North, Range 1 East, of the Boise Meridian, Idaho, Group Number 1319, was accepted November 3, 2011.

This survey was executed at the request of the U. S. Fish and Wildlife Service to meet certain administrative and management purposes.

The plat representing the dependent resurvey of portions of the west boundary, subdivisional lines, and the original meanders of North Lake, and the partial subdivision of section 7, and the metes-and-bounds survey of Lot 19, section 7, Township 14 South, Range 44 East, of the Boise Meridian, Idaho, Group Number 1357, was accepted November 4, 2011.

SUMMARY: The Bureau of Land Management (BLM) will file the plat of survey of the lands described below in the BLM Idaho State Office, Boise, Idaho, 30 days from the date of publication in the Federal Register. This survey was executed at the request of the U.S. Forest Service to meet certain administrative and management purposes. The plat constituting the dependent resurvey of a portion of the south boundary and the survey of a portion of the subdivisional lines, Township 8 North, Range 13 East, of the Boise Meridian, Idaho, Group Number 1326, was accepted August 31, 2011.

Dated: January 13, 2012.
Stanley G. French,
Chief Cadastral Surveyor for Idaho.

[FR Doc. 2012-1452 Filed 1-24-12; 8:45 am]

BILLING CODE 4310-GG-P